FARM CREDIT ADMINISTRATION

12 CFR Part 614

Programs for the Needs of Young, Beginning and Small Farmers and Ranchers

AGENCY: Farm Credit Administration (FCA or agency).

ACTION: Notice of public meeting.

SUMMARY: The Farm Credit Administration (FCA or agency) announces a forthcoming public meeting to consider whether regulatory changes are needed to enhance the Farm Credit System's (System) service to young, beginning, and small farmers, ranchers, and producers or harvesters of aquatic products (YBS farmers and ranchers).

DATES: The public meeting will be held on Wednesday, November 13, 2002, in Kansas City, Missouri. Anyone wishing to present testimony in person may notify us by November 6, 2002, or register to speak on the day of the meeting. Requests to provide testimony in person will be honored in order of receipt. Parties who register to speak on the day of the meeting may be invited to provide their testimony if time permits. If more people wish to testify than time permits, we will accept written statements for the record for 30 calendar days following the date of the public meeting. Requests for sign language interpretation or other auxiliary aids should be received by FCA's Office of Congressional and Public Affairs at (703) 883-4056, (TTY (703) 883-4056) by November 6, 2002.

ADDRESSES: The FCA will hold the public meeting at the Hyatt Regency Crown Center, 2345 McGee Street, Kansas City, Missouri, 64108 (816) 421-1234 on November 13, 2002, at 10 a.m. local time. You may submit requests to appear and present testimony for the public meeting by electronic mail to reg-comm@fca.gov or through the Pending Regulations section of our Web site at www.fca.gov. You may also submit your request in writing to Thomas G. McKenzie, Director, Regulation and Policy Division, Office of Policy and Analysis, Farm Credit Administration, 1501 Farm Credit Drive, McLean, VA 22102-5090, or by facsimile transmission to (703) 734-5784.

FOR FURTHER INFORMATION CONTACT:

Samuel R. Coleman, CFA, Senior Policy Analyst, Office of Policy and Analysis, Farm Credit Administration, McLean, VA 22102-5090, (703) 883-4498, TTY (703) 883-4434, or

Wendy R. Laguarda, Senior Counsel, Office of General Counsel, Farm Credit Administration, McLean, VA 22102-5090, (703) 883-4020, TTY (703) 883-2020.

I. Background

This public meeting is another step in the agency's efforts to obtain public input, which will help us ensure that the System accommodates the current and evolving needs of YBS farmers and ranchers for credit and related services. The FCA published an Advance Notice of Proposed Rulemaking (ANPRM) in the Federal Register on September 23, 2002 (67 FR 59479). Although anyone in the general public can comment on the ANPRM, generally we expect to hear from System institutions, System related entities or individuals, and the banking community in written comments responding to the questions in our ANPRM. The public meeting will be held to help us ensure that we hear the end-users' perspectives, that is, farmers and ranchers. The public meeting will give these individuals an opportunity to express their views face-to-face with the agency on ways the System can enhance its lending to and programs for YBS farmers and ranchers.

II. Objective

The objective of the FCA's focus on providing greater access to credit and related services to YBS farmers and ranchers is to generate ideas on ways to:

1. Develop clear, meaningful, and results-oriented guidelines for System YBS policies and programs;

2. Effectively measure the System's YBS performance to ensure that the System is fulfilling its YBS statutory mission; and

3. Provide adequate reporting and disclosure to the public on the System's compliance with its statutory YBS mission.

As noted above, the public meeting is an opportunity for the agency to get the perspectives of farmers and ranchers on how to accomplish this objective.

III. Questions

The agency posed numerous questions in its ANPRM on YBS farmers and ranchers credit and related services (67 FR 59479, Sept. 23, 2002). We encourage you to respond to all ANPRM questions in writing as instructed in the ANPRM. However, in the public meeting, we ask commenters to provide their perspectives on whether:

1. FCA should require System YBS programs to include special credit treatment for YBS farmer and rancher loans (including guarantees, concessionary underwriting standards, loan fees, interest rates, and differential loan covenants);

2. The System currently offers appropriate related services, such as farm business consulting, recordkeeping, insurance, and tax planning and preparation services to YBS farmers and ranchers;

3. Certain types of marketing and outreach activities best help promote YBS programs;

4. Certain types of System partnerships, alliances, or other joint efforts best help promote YBS programs; and

5. Non-System lenders offer programs or services to YBS farmers and ranchers that the System could offer as well.

Please limit verbal testimony at the meeting to 10 minutes per person and allow 5 minutes for follow-up questions. At the public meeting, we will also accept for the record written comments on questions and issues raised in the ANPRM or any other comments that attendees may have on the subject of YBS farmers and ranchers.

IV. Request To Present Testimony

Anyone wishing to present testimony in person may notify us by November 6, 2002, or register to speak on the day of the meeting. A request to speak should provide the name, address, and telephone number of the person wishing to testify and the general nature of the testimony. Requests to provide testimony in person will be honored in order of receipt.

Parties who register to speak on the day of the meeting may be invited to provide their testimony if time permits. If more people wish to testify than time permits, we will accept written statements for the record for 30 calendar days following the date of the public meeting.

You may also wish to submit written statements or detailed summaries of the text of your testimony. Written comments that you wish to submit to supplement your testimony should be presented to us by the close of the public meeting.

Written copies of the testimony along with a recorded transcript of the proceedings will be included in our official public record. A transcript of the public meeting and any written statements submitted to the agency will be available for public inspection at the FCA's Office of Policy and Analysis in McLean, Virginia.

V. Special Accommodations

The meeting is physically accessible to people with disabilities. Requests for sign language interpretation or other auxiliary aids should be received by FCA's Office of Congressional and Public Affairs at (703) 883-4056, (TTY (703) 883-4056) by November 6, 2002.

Dated: October 11, 2002.
Jeanette C. Brinkley,
Acting Secretary, Farm Credit Administration Board.

[FR Doc. 02-26470 Filed 10-17-02; 8:45 am]

BILLING CODE 6705-01-P